COMMISSION ON CIVIL RIGHTS

Sunshine Act Meeting Notice

AGENCY: United States Commission on Civil Rights.

ACTION: Notice of Commission business meeting.

DATES: Friday, July 15, 2016, at 10:00 a.m. EST.

ADDRESSES: Place: National Place Building, 1331 Pennsylvania Ave. NW., 11th Floor, Suite 1150, Washington, DC 20245 (Entrance on F Street NW.)

FOR FURTHER INFORMATION CONTACT: Latrice Foshee, Acting Media Advisor at telephone: (202) 376-8371 or email: publicaffairs@usccr.gov.

SUPPLEMENTARY INFORMATION: This business meeting is open to the public. If you would like to listen to the business meeting, please contact the above for the call-in information. Persons with hearing impairments, please contact the above for how to access the Federal Relay Service for the meeting.

Hearing-impaired persons who will attend the briefing and require the services of a sign language interpreter should contact Pamela Dunston at (202) 376-8105 or at signlanguage@usccr.gov at least seven business days before the scheduled date of the meeting.

Meeting Agenda

I. Business Meeting

A. Approval of Agenda

B. Program Planning

• Discussion and Vote on 2016 Statutory Enforcement Report on Justice: Toxic Materials, Poor Economics and the Impact and the Impact of the Environment on Low-Income, Minority Communities.

• Discussion and Vote on Concept Paper for 2017 Statutory Enforcement Report.

• Discussion and vote on Commission Statement on Supreme Court's 4-4 decision in United States v. Texas affirming 5th Circuit Court of Appeals decision to block DAPA (Deferred Action for Parents of Americans and Lawful Permanent Residents) program and expand DACA (Deferred Action for Childhood Arrivals).

• Discussion and vote on Commission Statement on Supreme Court Decision on Fisher v. University of Texas at Austin allowing universities to continue considering race and ethnicity as a factor in selecting incoming students.

• Discussion and Vote on Commission letter regarding Antonio Zambrano-Montes killed by police in Washington State.

C. State Advisory Committees

• Appointment of members to Advisory Committees

• Tennessee

• Idaho

• District of Columbia

• Ohio

• Advisory Committee Presentation by the Chair of the Oklahoma Advisory Committee on their School-to-Prison Pipeline report

D. Management and Operations

• Staff Director's Report

• Status of USCCR Web site Transition

• Introduction of Brian Walch Communications & Public Engagement Director

II. Adjourn Meeting

Dated: July 6, 2016.
David Mussatt,
Regional Programs Unit Chief, U.S. Commission on Civil Rights.

[FR Doc. 2016-16370 Filed 7-6-16; 4:15 pm]

BILLING CODE 6335-01-P